DEPARTMENT OF COMMERCE

National Oceanic and Atmospheric Administration

[I.D. 011001A]

Small-craft Facility Questionnaire

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 19, 2001.

ADDRESSES: Direct all written comments to Madeleine Clayton, Departmental Forms Clearance Officer, Department of Commerce, Room 6086, 14th and Constitution Avenue NW, Washington, DC 20230 (or via Internet at MClayton@doc.gov).

FOR FURTHER INFORMATION CONTACT: Requests for additional information or copies of the information collection instrument(s) and instructions should be directed to Lyn Preston, Chief, Nautical Data Branch, Marine Chart Division, N/CS26, Room 7350, 1315 East-West Highway, Silver Spring, MD 20910-3282 (phone 301-713-2737, ext. 123 or e-mail Lyn.Preston@noaa.gov).

SUPPLEMENTARY INFORMATION:

I. Abstract

NOAA’s National Ocean Services produces nautical charts to ensure safe navigation. Small-craft charts are designed for recreational boaters and include information on local marine facilities and the services they provide (fuel, repairs, etc.). Information must be gathered from marinas to update the information provided to the public.

II. Method of Collection

Forms are sent to marinas when the relevant chart is to be updated. Forms are also made available at boat shows.

III. Data

OMB Number: 0648-0021.

Form Number: NOAA Form 77-1.

Type of Review: Regular submission.

Affected Public: Business or other for-profit organizations.

Estimated Number of Respondents: 1,600.

Estimated Time Per Response: 8 minutes.

Estimated Total Annual Burden Hours: 213.

Estimated Total Annual Cost to Public: $0.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 9, 2001
Gwellnar Banks,
Management Analyst, Office of the Chief Information Officer.

[FR Doc. 01-1370 Filed 1-16-01; 8:45 am]

BILLING CODE 3510-JT-S